DEPARTMENT OF THE INTERIOR

Bureau of Land Management

[OR113-5882-PF, HAG03-0197]

Notice of Resource Advisory Committee Field Trips and Meetings

AGENCY: Medford District, Bureau of Land Management, Interior.

ACTION: Notice of Resource Advisory Committee field trips and meetings.

SUMMARY: The Medford District BLM will be hosting a series of field trips and meetings for the Medford Resource Advisory Committee. The purpose of the field trips and meetings will be to discuss and make recommendations for projects submitted for funding under the Secure Rural Schools and Community Self-Determination Act of 2000 (Pub. L. 106-393). The committee will also be reviewing the progress of projects funded in previous years.

The field trips will leave from the BLM office at 3040 Biddle Road, Medford, Oregon at 8:30 a.m. and will return to the BLM office at approximately 4 p.m. on July 14, 2003 and July 28, 2003. The itinerary of the field trips will vary depending on the types of projects to be visited, but all locations will be within the Medford BLM District.

The primary office meeting of the Resource Advisory Committee will be held on August 11, 2003 at the BLM office at 3040 Biddle Road, Medford, Oregon beginning at 10 a.m. The objective of this meeting is to review proposals for projects to be funded in Fiscal Year 2004. If there is not enough time to adequately consider all the proposed projects, a follow-up meeting will be held at the BLM office on August 14, 2003, also beginning at 10 a.m.

DATES: The field trips will take place on July 14 and July 28. They will leave the BLM office at 8:30 and return at approximately 4 p.m. The meeting will take place at the BLM building on August 11, 2003 beginning at 10 a.m.; a follow-up meeting will take place at the BLM office on August 14, 2003, if necessary to review all the proposals and make recommendations. These times and dates will be published on the Medford District Web site http://www.or.blm.gov/Medford and in the “Medford Mail Tribune” and “Grant's Pass Courier” newspapers.

FOR FURTHER INFORMATION AND ADDRESSES: Comments and questions should be sent to Roger Schnoes, Bureau of Land Management, 3040 Biddle Road, Medford, Oregon, 97504, (541) 618-2417, or fax to (541) 618-2400, or e-mail to 110mb@or.blm.gov.

SUPPLEMENTARY INFORMATION: The Secure Rural Schools and Community Self-Determination Act of 2000 (Pub. L. 106-393) established the Resource Advisory Committees associated with the BLM Districts and National Forests in western Oregon to assist the BLM and Forest Service fund projects to restore stability and predictability to the annual payments to the States and counties and to benefit public schools, roads and other purposes. The Medford BLM Resource Advisory Committee has met in 2001 and 2002 and made recommendations for funding projects. Projects for Fiscal Year 2004 have been submitted by BLM staff and by the public and these have been made available to the Resource Advisory Committee. They will also be published on the BLM Web site at http://www.or.blm.gov/Medford. The Resource Advisory Committee will have two opportunities to visit project sites during the field trips in July which are the subject of this notice. The field trips will include some of the projects being proposed for Fiscal Year 2004 as well as some of the projects already approved and funded in Fiscal Years 2002 and 2003.

At the formal meeting, the Resource Advisory Committee will discuss the projects which were submitted for funding in Fiscal Year 2004. The public will be able to comment on those projects at that time. The Resource Advisory Committee will make recommendations on project funding to the Designated Federal Official, who is the Medford BLM District Manager. The Designated Federal Official will then make a final determination on which projects will be funded in Fiscal Year 2004.

The purposes of the field trips and the meetings are to allow the Resource Advisory Committee to discuss and fully understand the projects. They will have the opportunity to ask questions of BLM managers and staff as well as the public parties who made the submissions. Considering the proposals in a meeting format will allow the Committee to exchange information and alternatives and reach a set of recommendations for funding.

Authority: Federal Land Policy and Management Act (FLPMA) and Secure Rural Schools and Community Self-Determination Act of 2000.

Dated: June 10, 2003.
Mary L. Smelcer,
Acting District Manager, Medford District, Bureau of Land Management.

[FR Doc. 03-15332 Filed 6-17-03; 8:45 am]

BILLING CODE 4310-33-P